DEPARTMENT OF THE INTERIOR

Bureau of Land Management

[OR-958-6333-ET; GPO-0083; (OR-9041A]

Public Land Order No. 7452; Partial Revocation of the Executive Order Dated April 17, 1926; Oregon

AGENCY: Bureau of Land Management, Interior.

ACTION: Public land order.

SUMMARY: This order partially revokes an Executive order insofar as it affects 4,231.09 acres of public lands withdrawn for the Bureau of Land Management's Public Water Reserve No. 107. The lands do not qualify for a public water reserve and the revocation is needed to permit several land disposals. This action will open the lands to surface entry and non-metalliferous mining, unless included in other segregations of record. All of the lands have been and will remain open to metalliferous mining and mineral leasing, unless included in other segregations of record.

EFFECTIVE DATE: July 7, 2000.

FOR FURTHER INFORMATION CONTACT: Allison O'Brien, BLM Oregon/Washington State Office, P.O. Box 2965, Portland, Oregon 97208-2965, 503-952-6171.

By virtue of the authority vested in the Secretary of the Interior by section 204 of the Federal Land Policy and Management Act of 1976, 43 U.S.C. 1714 (1994), it is ordered as follows:

1. The Executive Order dated April 17, 1926, which established Public Water Reserve No. 107, is hereby revoked insofar as it affect the following described lands:

Willamette Meridian

(a) Federal Lands and Minerals

T. 22 S., R. 27 E.,

Sec. 23;

Sec. 26, NE¼, NW¼NW¼, S½NW¼, and S½.

T. 26 S., R. 27 E.,

Sec. 13, NW¼NE¼, N½N½NW¼, and SE¼NW¼.

T. 21 S., R. 29 E.,

Sec. 15, W½SW¼SE¼ and E½SE¼SE¼.

T. 29 S., R. 30 E.,

Sec. 29, SE¼SW¼ and SW¼SE¼;

Sec. 32, S½NW¼NE¼.

T. 21 S., R. 31 E.,

Sec. 32, SW¼SW¼.

T. 22 S., R. 31 E.,

Sec. 5, lot 4.

T. 21 S., R 33 E.,

Sec. 3, SW¼SE¼.

T. 33 S., R. 33 E.,

Sec. 3, S½SE¼NE¼;

Sec. 4, lots 3 and 4, S½NW¼, and N½S½;

Sec. 35, W½E½SW¼, S½NW¼SW¼, SW¼SW¼, and E½SE¼.

T. 34 S., R. 33 E.,

Sec. 2, lots 1 to 4, inclusive, and S½N½;

Sec. 4, N½NE¼SW¼, SW¼NE¼SW¼, N½SE¼, and SE¼SE¼;

Sec. 35, SE¼SW¼.

T. 20 S., R. 33½ E.,

Sec. 7, NE¼NE¼;

Sec. 21, S½;

Sec. 25, SW¼NW¼ and NW¼SW¼.

T. 39 S., R. 34 E.,

Sec. 8, N½NW¼SE¼ and NE¼SE¼;

Sec. 9, NW¼SW¼.

T. 19 S., R. 35 E.,

Sec. 33, NW¼NE¼, NW¼SE¼, and SE¼SE¼;

Sec. 34, SW¼SW¼.

T. 40 S., R. 38 E.,

Sec. 9, NW¼NW¼.

(b) Private Surface/Federal Minerals

T. 27 S., R. 24 E.,

Sec. 11, S½NE¼, and S½;

Sec. 12, SW¼NE¼, S½NW¼, SW¼, and NW¼SE¼.

T. 19 S., R. 33½ E.,

Sec. 22, E½NW¼ and SW¼NW¼.

The areas described in (a) and (b) aggregate 4,231.09 acres in Harney County.

2. At 8:30 a.m. on July 7, 2000, the lands described in paragraph 1(a) will be opened to the operation of the public land laws generally, subject to valid existing rights, the provisions of existing withdrawals, other segregations of record and the requirements of applicable law. All valid applications received at or prior to 8:30 a.m. on July 7, 2000, shall be considered as simultaneously filed at that time. Those received thereafter shall be considered in the order of filing.

3. At 8:30 a.m. on July 7, 2000, the lands described in paragraph 1(a) and 1(b) will be opened to location and entry under the United States mining laws for non-metalliferous minerals, subject to valid existing rights, the provisions of existing withdrawals, other segregations of record, and the requirements of applicable law. Appropriation of lands described in this order under the general mining laws for non-metalliferous minerals prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Sylvia V. Baca,
Assistant Secretary of the Interior.

[FR Doc. 00-14289 Filed 6-6-00; 8:45 am]

BILLING CODE 4310-33-P